DEPARTMENT OF THE INTERIOR

Fish and Wildlife Service

[Docket No. FWS-HQ-IA-2017-0027; FXIA16710900000-178-FF09A30000]

Endangered Species; Receipt of Applications for Permits

AGENCY: Fish and Wildlife Service, Interior.

ACTION: Notice of receipt of applications for permits.

SUMMARY: We, the U.S. Fish and Wildlife Service, invite the public to comment on applications to conduct certain activities with endangered species. With some exceptions, the Endangered Species Act (ESA) prohibits activities with listed species unless Federal authorization is acquired that allows such activities.

DATES: We must receive comments or requests for documents on or before July 21, 2017.

ADDRESSES:

Submitting Comments: You may submit comments by one of the following methods:

• Federal eRulemaking Portal: http://www.regulations.gov. Follow the instructions for submitting comments on Docket No. FWS-HQ-IA-2017-0027.

• U.S. mail or hand-delivery: Public Comments Processing, Attn: Docket No. FWS-HQ-IA-2017-0027; U.S. Fish and Wildlife Service Headquarters, MS: BPHC; 5275 Leesburg Pike, Falls Church, VA 22041-3803.

When submitting comments, please indicate the name of the applicant and the PRT# you are commenting on. We will post all comments on http://www.regulations.gov. This generally means that we will post any personal information you provide us (see the Public Comments section below for more information).

Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT: Brenda Tapia, Program Analyst/Data Administrator, Division of Management Authority, U.S. Fish and Wildlife Service Headquarters, MS: IA; 5275 Leesburg Pike, Falls Church, VA 22041-3803; telephone 703-358-2023; facsimile 703-358-2280.

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; Jan. 26, 2009), which call on all Federal agencies to promote openness and transparency in Government by disclosing information to the public, we invite public comment on these permit applications before final action is taken.

III. Permit Applications

We invite the public to comment on applications to conduct certain activities with endangered species. With some exceptions, the Endangered Species Act (16 U.S.C. 1531 et seq.; ESA) prohibits activities with listed species unless Federal authorization is acquired that allows such activities.

Applicant: Nature Conservation Trust, Decatur, IL; PRT-22994C

The applicant requests a permit to import two dead Cheetah (Acinonyx jubatus) mounts from South Africa for the purpose of enhancing the propagation or survival of the species. This notification covers a single import conducted by the applicant over a 1-year period.

Applicant: Wildlife Conservation Society, New York, NY; PRT-04182C

The applicant requests a permit to export one captive born male babirusa (Babyrousa celebensis) to Antwerp Zoo, Antwerpen, Belgium for the purpose of enhancing the propagation or survival of the species. This notification covers a single export conducted by the applicant.

Applicant: U.S. Centers for Disease Control and Prevention, Atlanta, GA; PRT-26612C

The applicant requests authorization to import biological samples for wild and captive-held common Chimpanzee (Pan troglodytes) for the purpose of scientific research. This notification covers activities to be conducted by the applicant over a 5-year period.

Applicant: International Crane Foundation, Baraboo, WA; PRT-93674B

The applicant requests a permit to export 20 vials of Siberian crane (Grus leucogeranus) blood to Oka State Reserve in Russia for the purpose of enhancing the propagation or survival of the species. This notification covers a single export conducted by the applicant.

Applicant: H & L Sales, Inc. dba The Patio Ranch, Hunt, TX; PRT-667872

The applicant requests a renewal of his captive-bred wildlife registration under 50 CFR 17.21(g) for the following species to enhance propagation or survival of the species: Barasingha (Cervus duvauceli) and Arabian oryx (Oryx leucoryx). This notification covers activities to be conducted by the applicant over a 5-year period.

Applicant: Alexandria Zoological Park, Alexandria, LA; PRT-185788

The applicant requests a captive-bred wildlife registration under 50 CFR 17.21(g) for the following species to enhance the propagation or survival of the species: Galapagos giant tortoise (Chelonoidis nigra), Radiated tortoise (Astrochelys radiata), Yellow-spot river turtle (Podocnemis unifilis), Tartaruga (Podocnemis expansa), Chinese alligator (Alligator sinensis), Broad-snouted caiman (Caiman latirostris), African slender-snouted crocodile (Crocodylus cataphractus), African dwarf crocodile (Osteolaemus tetraspis) and (O. t. osborni), Andean condor (Vultur gryphus), Military macaw (Ara militaris), Palawan peacock pheasant (Polyplectron napoleonis), Parma wallaby (Macropus parma), Ring-tail lemur (Lemur catta), Ruffed lemur (Varecia), Cottontop tamarin (Saguinus Oedipus), Pied tamarin (Saguinus bicolor), Geoffroy's tamarin (Saguinus geoffroyi), golden-headed lion tamarin (Leontopithecus chrysomelas), lion-tailed macaque (Macaca silenus), Lar gibbon (Hylobates lar), Gibbon (Nomascus species), Siamang (Symphalangus syndactylus), Maned wolf (Chrysocyon brachyurus), black-footed cat (Felis nigripes), clouded leopard (Neofelis nebulosi), Snow leopard (Uncia uncia), Amur leopard (Panthera pardus orientalis), African lion (Panthera leo leo), Tiger (Panthera tigris), South American tapir (Tapirus terrestris), Central American tapir (Tapirus bairdii), Grevy's zebra (Equus grevyi), Somali wild ass (Equus africanus somalicus), Southern pudu (Pudu puda), and Anoa (Bubalus depressicornis). This notification covers activities to be conducted by the applicant over a 5-year period.

Applicant: FairPlay Pythons LLC, Punta Gorda, FL; PRT-93140B

The applicant requests a captive-bred wildlife registration under 50 CFR 17.21(g) for radiated tortoise (Astrochelys radiata) to enhance propagation or survival of the species. This notification covers activities to be conducted by the applicant over a 5-year period.

Applicant: Paula Hansen, Salem OR; PRT-055381

The applicant requests a captive-bred wildlife registration under 50 CFR 17.21(g) for red siskins (Carduelis cucullata) to enhance propagation or survival of the species. This notification covers activities to be conducted by the applicant over a 5-year period.

Applicant: Temple, East Stroudsburg, PA; PRT-14837C

The applicant requests a captive-bred wildlife registration under 50 CFR 17.21(g) for the golden parakeet (Guarouba guarouba) to enhance propagation or survival of the species. This notification covers activities to be conducted by the applicant over a 5-year period.

Applicant: White Oak Conservation Holdings, LLC; PRT-03134B

The applicant requests amendment of a captive-bred wildlife registration under 50 CFR 17.21(g) to add North Sulawesi babirusa (Babyrousa celebensis) and slender-horned gazelle (Gazella leptoceros) to their current registration to enhance the propagation or survival of the species. This notification covers activities until the expiration of the current registration on June 6, 2018.

Applicant: Virginia Stigen, Escondido, CA; PRT-06377C

The applicant requests a captive-bred wildlife registration under 50 CFR 17.21(g) for radiated tortoise (Astrochelys radiata) and Galapagos giant tortoise (Chelonoidis niger) to enhance the propagation or survival of the species. This notification covers activities to be conducted by the applicant over a 5-year period.

Applicant:Feld Entertainment, Inc., Palmetto, FL; PRT-22685C

On May 26, 2017, we published a Federal Register notice inviting the public to comment on an application for a permit to conduct certain activities with endangered species (82 FR 24381). We are now republishing the notice to allow the public the opportunity to review additional information that was mistakenly omitted in the first notice and changes to the application. This application is for the re-export of four male and four female captive-born tigers (Panthera tigris) to Alexander Lacey Einbeck, Germany, for the purpose of enhancement of the survival of the species.

Multiple Applicants

The following applicants each request a permit to import the sport-hunted trophy of one male bontebok (Damaliscus pygargus pygargus) culled from a captive herd maintained under the management program of the Republic of South Africa, for the purpose of enhancement of the survival of the species.

Applicant: Kevin Chestnut, Moses Lake, WA; PRT-20534C

Applicant: James LeGendre, Junction City, OR; PRT-23328C

Applicant: Will Perry, Conroe, TX; PRT-21851C

Applicant: Julian Sullivan, Madison, AL; PRT-24105C

Applicant: Janis Maund, Austin, TX; PRT-23963C

IV. Next Steps

If the Service decides to issue permits to any of the applicants listed in this notice, we will publish a notice in the Federal Register. You may locate the Federal Register notice announcing the permit issuance date by searching in www.regulations.gov under the permit number listed above in this document.

V. Public Comments

You may submit your comments and materials concerning this notice by one of the methods listed in ADDRESSES. We will not consider comments sent by email or fax or to an address not listed in ADDRESSES.

If you submit a comment via http://www.regulations.gov, your entire comment, including any personal identifying information, will be posted on the Web site. If you submit a hardcopy comment that includes personal identifying information, you may request at the top of your document that we withhold this information from public review. However, we cannot guarantee that we will be able to do so.

We will post all hardcopy comments on http://www.regulations.gov.

VI. Authorities

Endangered Species Act of 1973 (16 U.S.C. 1531).

Brenda Tapia,
Program Analyst/Data Administrator, Branch of Permits, Division of Management Authority.

[FR Doc. 2017-12919 Filed 6-20-17; 8:45 am]

BILLING CODE 4333-15-P